LIBRARY OF CONGRESS

Copyright Royalty Board

[Docket 14-CRB-0010-CD/SD (2010-13)]

Distribution of Cable Royalty Funds; Distribution of Satellite Royalty Funds

AGENCY: Copyright Royalty Board, Library of Congress.

ACTION: Final Distribution Determination.

SUMMARY: The Copyright Royalty Judges (Judges) announce final distribution of a portion of cable and satellite royalty funds for the years 2010, 2011, 2012, and 2013. The determination results from agreement among the participants that claim shares of the funds to be allocated to the Devotional Claimant category. The Judges issued their initial determination to the participants on July 19, 2018.

DATES: Applicable: August 6, 2018.

ADDRESSES: The final distribution order is also published in eCRB at https://app.crb.gov/ and on the Federal eRulemaking Portal at www.regulations.gov.

Docket: For access to the docket to read submitted background documents, go to eCRB, the Copyright Royalty Board's electronic filing and case management system, at https://app.crb.gov/ and search for docket number 14-CRB-0010-CD/SD (2010-13).

FOR FURTHER INFORMATION CONTACT: Anita Blaine, CRB Program Specialist, by telephone at (202) 707-7658 or email at crb@loc.gov.

SUPPLEMENTARY INFORMATION: This matter is before the Copyright Royalty Judges (Judges) on motion of Multigroup Claimants (MGC) for entry of a consent order adopting the distribution shares proposed by the Settling Devotional Claimants (SDC) and ordering a final distribution of cable and satellite television royalty funds to be allocated to the Devotional Claimants category in conformity with those agreed shares.¹ The SDC do not oppose the final percentage distribution.

¹ Allocation of cable royalty funds to the Devotional Claimants category remains the subject of the allocation proceeding, Docket No. 14-CRB-0010 CD (2010-13). The schedule in the proceeding to determine allocation of satellite royalty funds among claimant categories, Docket No. 14-CRB-0011 SD (2010-13) is suspended pending completion of the cable allocation proceeding.

The Judges find that the parties' agreement regarding the final percentage distribution ends any remaining controversy with regard to the subject funds over which the Judges have jurisdiction and that neither party retains a significant interest related to this proceeding. Accordingly, good cause exists for entry of a final distribution determination relating to the subject funds.

The Judges therefore order that the royalty shares proposed in the SDC's Written Direct Statement (Dec. 29, 2017) are adopted, and that final distribution of the cable and satellite royalty funds allocated to the Devotional category shall be in accordance with the following relative shares.

Cable Funds Allocated to Devotional Programming
Cable royalty year | SDC share (percent) | MGC share (percent)
2010 | 77.1 | 22.9
2011 | 82.6 | 17.4
2012 | 84.8 | 15.2
2013 | 89.1 | 10.9

Satellite Funds Allocated to Devotional Programming
Satellite royalty year | SDC share (percent) | MGC share (percent)
2010 | 75.3 | 24.7
2011 | 88.3 | 11.7
2012 | 90.7 | 9.3
2013 | 97.7 | 2.3

The Judges further order that, as the parties have presented this as an agreed determination, they have waived their rights to seek rehearing.

The Judges further order that this final distribution determination is without prejudice to the parties' right to appeal the Judges' interlocutory ruling in this consolidated proceeding with regard to both cable and satellite claims issues.

Upon issuance of this final determination, the Register of Copyrights (Register) shall have 60 days to conduct a statutory review. The Librarian of Congress shall review and cause this final determination, and any correction thereto by the Register, to be published in the Federal Register no later than the conclusion of the 60-day review period.

July 18, 2018.

So ordered.

Suzanne M. Barnett,

Chief United States Copyright Royalty Judge.

David R. Strickler

United States Copyright Royalty Judge.

Jesse M. Feder

United States Copyright Royalty Judge.

Dated: July 27, 2018.
Suzanne M. Barnett,
Chief United States Copyright Royalty Judge.
Dr. Carla D. Hayden,
Librarian of Congress.

[FR Doc. 2018-16780 Filed 8-3-18; 8:45 am]

BILLING CODE 1410-72-P